LIBRARY OF CONGRESS

Copyright Office

37 CFR Part 201

[Docket No. RM 2008-9]

Fees

AGENCY: Copyright Office, Library of Congress.

ACTION: Extension of time to file comments.

SUMMARY: The Copyright Office is extending the time in which comments may be filed in response to its notice of proposed rulemaking regarding new fees for registration of claims, special services and Licensing Division services, and new statutory fees and fees for certain other services that the Office is proposing to submit to Congress.

DATES: Comments should be in writing and received on or before November 24, 2008.

ADDRESSES: If hand delivered by a private party, an original and ten copies of any comment should be brought to Room LM-401 of the James Madison Memorial Building between 8:30 a.m. and 5:00 p.m. and the envelope should be addressed as follows: Office of the General Counsel, U.S. Copyright Office, James Madison Memorial Building, Room LM-401, 101 Independence Avenue, SE., Washington, DC 20559-6000. If hand delivered by a commercial courier, an original and ten copies of any comment must be delivered to the Congressional Courier Acceptance Site located at Second and D Streets, NE., Washington, DC, between 8:30 a.m. and 4:00 p.m. The envelope should be addressed as follows: Office of the General Counsel, U.S. Copyright Office, LM 401, James Madison Building, 101 Independence Avenue, SE., Washington, DC. Please note that CCAS will not accept delivery by means of overnight delivery services such as Federal Express, United Parcel Service or DHL. If sent by mail (including overnight delivery using U.S. Postal Service Express Mail), an original and five copies should be addressed to U.S. Copyright Office, Copyright GC/I&R, P.O. Box 70400, Washington, DC 20024.

FOR FURTHER INFORMATION CONTACT: Tanya M Sandros, General Counsel, or Kent Dunlap, Principal Legal Advisor for the General Counsel, Telephone: (202) 707-8380. Telefax: (202) 707-8366.

SUPPLEMENTARY INFORMATION: On October 14, 2008, the Copyright Office published a notice of proposed rulemaking to inform the public that the Copyright Office of the Library of Congress is considering adoption of new fees for registration of claims, special services and Licensing Division services, and that the Office intends to submit a schedule of proposed new statutory fees and fees for certain other services to Congress. (73 FR 60658 October 14, 2008)

The NPRM contained three charts which included a comparison of existing fees and the proposed new fees. Due to a printing problem, a substantial portion of the text was missing from the charts entitled “Special services” and “Licensing Division services,” and a correction document was issued by the Federal Register on October 23, 2008. (73 FR 63111) The Office is now extending the comment deadline to provide a 30 day period to consider all the fees, including those published for the first time in the correction.

The cost study which provides the basis for the proposed fee changes is posted on the Office’s website at: http://www.copyright.gov/reports/fees2008.pdf.

Dated: October 28, 2008.
Tanya Sandros,
General Counsel.

[FR Doc. E8-26063 Filed 10-30-08; 8:45 am]

BILLING CODE 1410-30-S